DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of April 1, 2020 through April 30, 2020. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated; AND (2(A) or 2(B) below).

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path:

(i) The sales or production, or both, of such firm, have decreased absolutely; AND (ii and iii below)

(ii)(I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased; AND

(iii) the increase in imports described in clause (ii) contributed importantly to such workers' separation or threat of separation and to the decline in the sales or production of such firm; OR

(B) Shift in Production or Services to a Foreign Country Path OR Acquisition of Articles or Services from a Foreign Country Path:

(i)(I) There has been a shift by such workers' firm to a foreign country in the production of articles or the supply of services like or directly competitive with articles which are produced or services which are supplied by such firm; OR

(II) such workers' firm has acquired from a foreign country articles or services that are like or directly competitive with articles which are produced or services which are supplied by such firm; AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated; AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4)); AND

(3) Either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e)) must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1) of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A)); AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C) of paragraph (1) is published in the Federal Register; AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W number | Subject firm | Location | Impact date
95,115 | Team Ten, LLC, American Eagle Paper Mills, Manpower, Spherion | Tyrone, PA | August 23, 2018.
95,266 | Wolverine Advanced Materials, ITT Inc., Elwood Staffing | Blacksburg, VA | October 8, 2018.
95,446 | Concentrix CVG Customer Management Group, Inc., Concentrix CVG Corporation | Taylorsville, UT | December 4, 2018.
95,448 | Honeywell International Inc., Safety & Productivity Solutions, Sperian Protection USA, Inc., etc | Smithfield, RI | December 4, 2018.
95,723 | Hybrid Promotions, LLC | Cypress, CA | February 21, 2019.
95,776 | Rockland-Bamberg Industries, Rockland Industries, Inc | Bamberg, SC | March 4, 2019.
95,819 | Southwire Company LLC | Hayesville, NC | March 16, 2019.

The following certifications have been issued. The requirements of Section 222(a)(2)(B) (Shift in Production or Services to a Foreign Country Path or Acquisition of Articles or Services from a Foreign Country Path) of the Trade Act have been met.

TA-W number | Subject firm | Location | Impact date
94,706 | DXC Technology, Managed Security Services (MSS) | Williamsville, NY | April 5, 2018.
94,983 | HP Inc., Imaging, Printing and Solutions Business Group, Insight Global, etc | Palto Alto, CA | December 16, 2018.
94,983A | HP Inc., Imaging, Printing and Solutions Business Group | San Diego, CA | December 16, 2018.
94,983B | Workers of Insight Global, Inc., Accion Labs Inc., Adea Solutions, etc., HP Inc., Imaging, Printing and Solutions Business Group | San Diego, CA | June 27, 2018.
94,983C | HP Inc., Imaging, Printing and Solutions Business Group | Fort Collins, CO | December 16, 2018.
94,983D | Workers of Insight Global, Inc., Accion Labs Inc., Adea Solutions, etc., HP Inc., Imaging, Printing and Solutions Business Group | Fort Collins, CO | June 27, 2018.
94,983E | HP Inc., Imaging, Printing and Solutions Business Group | Alpharetta, GA | December 16, 2018.
94,983F | Workers of Insight Global, Inc., Accion Labs Inc., Adea Solutions, etc., HP Inc., Imaging, Printing and Solutions Business Group | Alpharetta, GA | June 27, 2018.
94,983G | HP Inc., Imaging, Printing and Solutions Business Group, Adecco, Modis, Experis, etc | Boise, ID | December 16, 2018.
94,983H | Workers of Insight Global, Inc., Accion Labs Inc., Adea Solutions, etc., HP Inc., Imaging, Printing and Solutions Business Group | Boise, ID | June 27, 2018.
94,983I | HP Inc., Imaging, Printing and Solutions Business Group | Rio Rancho, NM | December 16, 2018.
94,983J | Workers of Insight Global, Inc., Accion Labs Inc., Adea Solutions, etc., HP Inc., Imaging, Printing and Solutions Business Group | Rio Rancho, NM | June 27, 2018.
94,983K | HP Inc., Imaging, Printing and Solutions Business Group | New York, NY | December 16, 2018.
94,983L | Workers of Insight Global, Inc., Accion Labs Inc., Adea Solutions, etc., HP Inc., Imaging, Printing and Solutions Business Group | New York, NY | June 27, 2018.
94,983M | HP Inc., Imaging, Printing and Solutions Business Group | Corvallis, OR | December 16, 2018.
94,983N | Workers of Insight Global, Inc., Accion Labs Inc., Adea Solutions, etc., HP Inc., Imaging, Printing and Solutions Business Group | Corvallis, OR | June 27, 2018.
94,983O | HP Inc., Imaging, Printing and Solutions Business Group | Plano, TX | December 16, 2018.
94,983P | Workers of Insight Global, Inc., Accion Labs Inc., Adea Solutions, etc., HP Inc., Imaging, Printing and Solutions Business Group | Plano, TX | June 27, 2018.
94,983Q | HP Inc., Imaging, Printing and Solutions Business Group, Insight Global, etc | Spring, TX | June 27, 2018.
94,983R | HP Inc., Imaging, Printing and Solutions Business Group | Austin, TX | December 16, 2018.
94,983S | Workers of Insight Global, Inc., Accion Labs Inc., Adea Solutions, etc., HP Inc., Imaging, Printing and Solutions Business Group | Austin, TX | June 27, 2018.
94,983T | HP Inc., Imaging, Printing and Solutions Business Group | Vancouver, WA | December 16, 2018.
94,983U | Workers of Insight Global, Inc., Accion Labs Inc., Adea Solutions, etc., HP Inc., Imaging, Printing and Solutions Business Group | Vancouver, WA | June 27, 2018.
94,983V | HP Inc., Imaging, Printing and Solutions Business Group | San Jose, CA | December 16, 2018.
94,983W | Workers of Insight Global, Inc., Accion Labs Inc., Adea Solutions, etc., HP Inc., Imaging, Printing and Solutions Business Group | San Jose, CA | June 27, 2018.
94,983X | HP Inc., Imaging, Printing and Solutions Business Group | Aguadilla Pueblo, PR | December 16, 2018.
94,983Y | Workers of Insight Global, Inc., Accion Labs Inc., Adea Solutions, etc., HP Inc., Imaging, Printing and Solutions Business Group | Aguadilla Pueblo, PR | June 27, 2018.
95,135 | Continental Powertrain USA, LLC, Marketplace Staffing, Penmac Staffing, etc | Fountain Inn, SC | August 29, 2018.
95,207 | IntraPac (Plattsburgh) Inc., ETS | Plattsburgh, NY | September 23, 2018.
95,249 | Plains Marketing LP, Plains All American GP LLC | Yankton, SD | October 3, 2018.
95,389 | Northern Trust Corporation, Technology Department, Technology Finance Group | Chicago, IL | November 18, 2018.
95,407 | MetLife Group, Inc., Global Balance Sheet Controls Unit, Financial Operations Team, MetLife | Tampa, FL | November 21, 2018.
95,409 | Rite Aid Headquarters Corporation, Technology Services Computer Operations, Rite Aid Corporation | Shiremanstown, PA | November 22, 2018.
95,442 | Toppan Merrill LLC, Toppan Printing, Merrill Communications LLC, Toppan Vintage, Composition | New York, NY | December 3, 2018.
95,454 | Guitabec USA Inc., Lasido Inc | Berlin, NH | December 5, 2018.
95,496 | E-Lo Sportwear LLC, Sample Making Team | New York, NY | December 18, 2018.
95,512 | IDT International Corporation, Technology Department, IDT Corporation | Newark, NJ | December 23, 2018.
95,519 | Blackmer, Dover Energy, PSG, a Dover Company, Kelly Services | Grand Rapids, MI | December 27, 2018.
95,557 | Stanley Black & Decker Inc., Greenfield Operations, Morales Group Inc., MBC Staffing, Kelley Services | Greenfield, IN | January 10, 2019.
95,579 | Heraeus Precious Metals North America, Heraeus Photovoltaics Global Business Unit, Aerotek Scientific | West Conshohocken, PA | January 17, 2019.
95,610 | Aquity Solutions, LLC, MModal Services, LLC | Cary, NC | January 27, 2019.
95,623 | Neurospine Institute, LLC, Billing Department, Pacific Sports and Spine, Neurospine Group | Eugene, OR | January 28, 2019.
95,673 | The AMES Companies, Inc | Falls City, NE | February 10, 2019.
95,677 | AIG PC Global Services, Inc., Olathe KS General Insurance Claims Shared Service, etc | Olathe, KS | February 11, 2019.
95,682 | JCPenney Customer Care Center, Lenexa Customer Care Center, JCPenney Corporation, Onin, Manpower | Lenexa, KS | February 11, 2019.
95,691 | Schneider Electric IT Corporate, Secure Power: Cooling, Schneider Electric Corporation, VOLT Management | O'Fallon, MO | February 13, 2019.
95,692 | OMNI GSS Inc., OMNIGSS Limited | Philadelphia, PA | February 13, 2019.
95,695 | Altex-Mar Electronics Inc., Express, Elwood, Morales Group, Crown Services, Belflex Staffing | Westfield, IN | February 18, 2019.
95,701 | Computer Services Corporation (CSC), Dividend, Cash, & Loan Correspondence Division, DXC Technology, etc | Warwick, RI | February 18, 2019.
95,707 | Armstrong Hardwood Flooring, LLC, Armstrong Hardwood Flooring Products, Armstrong Hardwood Products, etc | Oneida, TN | February 19, 2019.
95,730 | Anchen Pharmaceuticals Inc., Par Pharmaceutical, Aerotke, Kimco, Healthcare Talent | Irvine, CA | February 24, 2019.
95,731 | Paradigm Precision, Aerotek Staffing, Key Alliance Staffing | Tempe, AZ | February 24, 2019.
95,739 | Virco Manufacturing Corporation, Staffmark, TEC, ASAP, Premier | Conway, AR | February 25, 2019.
95,744 | mHelpDesk, LLC, Angie's List, Buwelo, Synergie Global | Fairfax, VA | February 26, 2019.
95,753 | Spark Networks, Inc. (dba MingleMatch), Customer Care Department, Email Support team, Spark Networks SE | Lehi, UT | February 26, 2019.
95,760 | Franchise World Headquarters dba Subway, HCL, CapGemini | Milford, CT | March 3, 2019.
95,781 | The Travelers Indemnity Company, Business Insurance Technology Northland group, The Travelers Companies | Saint Paul, MN | March 5, 2019.
95,799 | Eaton Hydraulics LLC, Power Motion Control Division, Eaton Corporation | Shawnee, OK | March 5, 2019.
95,812 | Smiths Detection, Inc., IMS Consumables, Smiths Group plc | Edgewood, MD | March 4, 2019.
95,827 | AMETEK Instrumentation Systems, Instrumentation System Division, AMETEK, Inc., Adecco | Grand Junction, CO | March 23, 2020.
95,835 | NTT Security Inc., Service Desk, Tek Systems | Omaha, NE | March 20, 2019.
95,838 | Electronics for Imaging, Inc., Fiery Software, Sierra Atlantic, Nelson Staffing Solutions, etc | Fremont, CA | March 23, 2019.
95,844 | Cloud Terre Studio, LLC | Winchester, VA | March 24, 2019.
95,847 | Elo Touch Solutions, Inc., Elo Holding, Inc., QES Solutions, Masis Staffing Solutions | Rochester, NY | March 24, 2019.
95,858 | Medtronic Plc, Restorative Therapies Group—Operations, Artech Information Systems, etc | Warsaw, IN | March 25, 2019.
95,868 | UTC Fire & Security Americas Corporation, Inc. and Onity Inc., Supra and Onity division, Carrier Global Corporation | Salem, OR | April 3, 2019.
95,869 | Essilor of America, Inc., Finance—Shared Services Division, EOA Holding Co., Inc | Dallas, TX | April 6, 2019.
95,875 | Safran, Cabins Division, Adecco | Huntington Beach, CA | April 6, 2019.
95,878 | Gaming Partners International USA, Inc., Gaming Partners International Corporation | Blue Springs, MO | April 8, 2019.
95,882 | National Pen Tennessee, LLC, National Pen Co., LLC, Cimpress, Randstand North America, Express Services | Shelbyville, TN | April 9, 2019.
95,882A | National Pen Tennessee, LLC, National Pen Co., LLC, Cimpress PLC | Shelbyville, TN | April 9, 2019.
95,883 | Teva Pharmaceuticals, Teva Global Operations (TGO) Division, Kelly Temporary Services Company | Forest, VA | May 10, 2020.
95,883A | Leased Workers from ABM, Sodexo, Synovos, and GSOC, Teva Pharmaceuticals, Teva Global Operations (TGO) Division | Forest, VA | April 10, 2019.
95,892 | Move Central, Inc | San Diego, CA | April 16, 2019.

The following certifications have been issued. The requirements of Section 222(b) (supplier to a firm whose workers are certified eligible to apply for TAA) of the Trade Act have been met.

TA-W number | Subject firm | Location | Impact date
95,325 | HWI Environmental Technologies, HWI Environmental Technologies, Inc | St. Louis, MO | October 24, 2018.
95,729 | Metal Powder Products, LLC | Saint Marys, PA | February 24, 2019.
95,823 | SBM Site Services LLC, SBM Management Services LP | Wichita, KS | March 17, 2019.

The following certifications have been issued. The requirements of Section 222(b) (downstream producer to a firm whose workers are certified eligible to apply for TAA) of the Trade Act have been met.

TA-W number | Subject firm | Location | Impact date
95,642 | Logistics Insight Corp., Malace HR, Sentech Services, Driver Logistics | Detroit, MI | February 3, 2019.

The following certifications have been issued. The requirements of Section 222(e) (firms identified by the International Trade Commission) of the Trade Act have been met.

TA-W number | Subject firm | Location | Impact date
95,791 | Lippert Components Manufacturing, Inc., Interiors division, ProPeople Staffing Services, IES Custom Staffing | Nampa, ID | December 12, 2018.

Negative Determinations for Worker Adjustment Assistance

In the following cases, the investigation revealed that the eligibility criteria for TAA have not been met for the reasons specified.

The investigation revealed that the requirements of Trade Act section 222(a)(1) and (b)(1) (significant worker total/partial separation or threat of total/partial separation), or (e) (firms identified by the International Trade Commission), have not been met.

TA-W number | Subject firm | Location | Impact date
95,356 | RPC Superfos US Inc., Berry Global, Axiom Staffing Group, Kelly Services, Prologistix, etc | Winchester, VA
95,596 | J.R. Vinagro Corporation, J.R. Vinagro Manufacturing & Processing Company | Johnston, RI
95,665 | Accenture LLP, Capability Network | Indianapolis, IN
95,894 | Intrado Facilities, LLC, Intrado Corporation | Omaha, NE
95,894A | Intrado Interactive Services Corporation, Intrado Corporation | Omaha, NE

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W number | Subject firm | Location | Impact date
95,254 | Daimler Trucks North America, Mount Holly Truck Manufacturing Plant, Daimler AG | Mount Holly, NC
95,834 | Nichols Oil Tools, Pipe division, Argonaut Private Equity | San Angelo, TX

The investigation revealed that the criteria under paragraphs(a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W number | Subject firm | Location | Impact date
94,722 | Atos IT Solutions and Services, Inc., Symtech Innovations Ltd | Hillsboro, OR
94,729 | Alfa Laval, Inc | Lykens, PA
94,767 | Healthfirst Management Services, LLC, Information Technology Unit, Quality Assurance, Business Analyst Group | New York, NY
94,895 | Vista Del Mar Medical Group Inc., Medical Billing Division | Oxnard, CA
94,915 | Kelly Services, Inc., Dow Chemical Company-Global Intercompany Clearing House | Midland, MI
95,306 | Qwest Corporation, Customer Care Service Delivery, CenturyLink, Inc | Minneapolis, MN
95,322 | Pacific Recycling, Inc., Staffing Partners, People Ready, Inc., All Star Labor Staffing | Eugene, OR
95,339 | Autokiniton US Holdings Inc. (AGG), Tower International, Corporate Office, Zing Staffing | Livonia, MI
95,382 | Rite Aid Headquarters Corporation, IT Technicians, Field Technical Services Team | Wilsonville, OR
95,382A | Rite Aid Headquarters Corporation, IT Technicians, Field Technical Services Team | Tigard, OR
95,382B | Rite Aid Headquarters Corporation, IT Technicians, Field Technical Services Team | Springfield, OR
95,382C | Rite Aid Headquarters Corporation, IT Technicians, Field Technical Services Team | Grants Pass, OR
95,424 | MotivePower, Inc., Wabtec Corporation | Boise, ID
95,500 | Halliburton Energy Services, Inc., Halliburton Company, 100 E. Halliburton Boulevard | Duncan, OK
95,500A | Halliburton Energy Services, Inc., Halliburton Comp., 2600 S. 2nd Street, Excluding Finance & Accounting, etc | Duncan, OK
95,598 | Lucky's Market | St. Louis, MO
95,620 | Mid Rivers Store #571, Express Fashion Operations | Saint Peters, MO
95,629 | Astoria Forest Products | Hillsboro, OR
95,716 | Forge Graphics Works, Inc., Terra Staffing, Express Employment Professionals | Portland, OR
95,736 | Mersen USA St. Marys-PA Corporation, Mersen USA BN Corporation | St. Marys, PA
95,737 | Nationstar Mortgage, LLC D/B/A Mr. Cooper, Servicing Division, Nationstar Holdings, Inc., Mr. Cooper Group, Inc | Beaverton, OR
95,750 | Conduent Patient Access Solutions, LLC, Conduent Business Services, LLC, Manpower | Chesapeake, VA
95,762 | Commercial Dehydrator Systems, Inc | Eugene, OR
95,777 | Cardone Industries, Inc., Express Employment | Harlingen, TX
95,777A | Cardone Industries, Inc., Select Staff, Link Staffing | Brownsville, TX
95,777B | Cardone Industries, Inc | Arlington, TX
95,784 | Veritas Tools USA | Ogdensburg, NY
95,801 | A&I Products, All Makes Division, John Deere | Williamsport, PA
95,843 | Amcor Rigid Packaging USA, LLC, Amcor PLC, Randstad, Surge Staffing, Remedy Staffing, etc | Hazelwood, MO

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W number | Subject firm | Location | Impact date
95,567 | Metal Box International | Chicago, IL
95,836 | Precision for Medicine | Norwalk, CT
95,851 | Titan Wheel Corporation of Virginia | Saltville, VA

The following determinations terminating investigations were issued in cases where the petition regarding the investigation has been deemed invalid.

TA-W number | Subject firm | Location | Impact date
95,329 | General Motors Renaissance Center | Detroit, MI
95,734 | Concept Systems Manufacturing | San Jose, CA

The following determinations terminating investigations were issued because the worker group on whose behalf the petition was filed is covered under an existing certification.

TA-W number | Subject firm | Location | Impact date
95,450 | Honeywell International Inc., Safety & Productivity Solutions, Honeywell Safety Products, USA, Inc., etc | Smithfield, RI
95,541 | Health Care Strategies | Richardson, TX
95,561 | Aerotek and Award Staffing, Pace Industries Inc., St. Paul (Metalcraft) Division, Pace Industries LLC | Arden Hills, MN
95,622 | Joyson Safety | Knoxville, TN
95,647 | Dun & Bradstreet | Waltham, MA
95,891 | HP Inc., Imaging, Printing and Solutions Business Group | Vancouver, WA

The following determinations terminating investigations were issued because the petitioning group of workers is covered by an earlier petition that is the subject of an ongoing investigation for which a determination has not yet been issued.

TA-W number | Subject firm | Location | Impact date
95,560 | HP Inc | Boise, ID
95,609 | XPO Logistics | Hazelwood, MO

I hereby certify that the aforementioned determinations were issued during the period of April 1, 2020 through April 30, 2020. These determinations are available on the Department's website https://www.doleta.gov/tradeact/petitioners/taa_search_form.cfm under the searchable listing determinations or by calling the Office of Trade Adjustment Assistance toll free at 888-365-6822.

Signed at Washington, DC, this 7th day of May 2020.
Hope D. Kinglock,
Certifying Officer, Office of Trade Adjustment Assistance.

[FR Doc. 2020-11935 Filed 6-2-20; 8:45 am]

BILLING CODE 4510-FN-P